DEPARTMENT OF DEFENSE

Department of the Air Force

U.S. Air Force Scientific Advisory Board Notice of Meeting

AGENCY: Department of the Air Force, Air Force Scientific Advisory Board.

ACTION: Meeting withdrawal notice.

SUMMARY: The U.S. Air Force Scientific Advisory Board is withdrawing the Federal Register Meeting notice, published on May 12, 2017; 8:45 a.m. [FR Doc. 2017-09775].

DATES: This withdrawal is effective May 17, 2017.

SUPPLEMENTARY INFORMATION: The Department of the Air Force is withdrawing the meeting notice of the Scientific Advisory Board because the published copy was in error (the notice published was a previous withdrawal that included FRO's annotation (“Notice Given as a Reminder”). An amended notice will be processed ASAP and without the reminder notice.

Henry Williams,
Acting Air Force Federal Register Liaison Officer.

[FR Doc. 2017-11134 Filed 5-30-17; 8:45 am]

BILLING CODE 5001-10-P